DEPARTMENT OF JUSTICE

Notice of Lodging of Consent Decree Pursuant to the Clean Water Act

Notice is hereby given that on April 16, 2012 a proposed Consent Decree (“Decree”) in United States of America and the State of Tennessee v. the City of Memphis (“City”), Civil Action No. 2:10-CV-02083-SHM-dkv was lodged with the United States District Court for the Western District of Tennessee. This Decree represents a settlement of claims against the City of Memphis under Section 301, 309, and 402 of the Clean Water Act, 33 U.S.C. 1311, 1319, and 1342; and Tenn. Code Ann. §§ 69-3-108(b)(6), 114 and 115; and Sections 101 through 138 of the Tennessee Water Quality Control Act (“TWQCA”).

Under this settlement between the United States and the State and the City, the City will be required to develop and implement a number of sewer management, operation and maintenance programs, including: A sewer overflow response plan, a fats, oils, and grease management program, a lift station and force main operations and maintenance program, and an infrastructure rehabilitation program. The City will identify priority rehabilitation projects within the first year after entry of the proposed Consent Decree. The City will assess a minimum of 10% of its system and rehabilitate approximately 6% of its system in the first year of the Consent Decree, including major interceptors at risk of failures similar to the one that occurred on the Wolf River in 2008. The Consent Decree also provides for the payment of a civil penalty of $1.29 million. The penalty will be split evenly between the United States and the State. The City will pay $645,000 to the United States. Tennessee's payment will be in the form of state projects including an effluent study at the M.C. Stiles Wastewater Treatment Plant discharge point and a sewer GPS mapping project.

The Department of Justice will receive for a period of thirty (30) days from the date of this publication comments relating to the proposed Consent Decree. Comments should be addressed to the Assistant Attorney General of the Environment and Natural Resources Division, Department of Justice, Washington, DC 20530, and should refer to United States of America and State of Tennessee v. City of Memphis, Civil Action No. 2:10-CV-02083-SHM-dkv, D.J. Ref. 90-5-1-1-09720.

The proposed Decree may be examined on the following Department of Justice Web site, http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271.

If requesting a copy from the Consent Decree Library by mail, please enclose a check in the amount of $19.50 (25 cents per page reproduction cost) for the Consent Decree alone or $81.50 for the Consent Decree and appendices payable to the U.S. Treasury or, if requesting by email or fax, forward a check in either of those amounts to the Consent Decree Library at the address given above.

Henry Friedman,
Assistant Section Chief, Environmental Enforcement Section, Environment and Natural Resources Division.

[FR Doc. 2012-9770 Filed 4-23-12; 8:45 am]

BILLING CODE 4410-15-P